SMALL BUSINESS ADMINISTRATION

[Disaster Declaration #13781 and #13782]

Colorado Disaster Number CO-00066

AGENCY: U.S. Small Business Administration.

ACTION: Amendment 1.

SUMMARY: This is an amendment of the Presidential declaration of a major disaster for Public Assistance Only for the State of Colorado (FEMA-4145-DR), dated 09/24/2013.

Incident: Severe Storms, Flooding, Landslides, and Mudslides.

Incident Period: 09/11/2013 through 09/30/2013.

Effective Date: 09/30/2013.

Physical Loan Application Deadline Date: 11/25/2013.

Economic Injury (EIDL) Loan Application Deadline Date: 06/24/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Colorado, dated 09/24/2013, is hereby amended to establish the incident period for this disaster as beginning 09/11/2013 and continuing through 09/30/2013.

All other information in the original declaration remains unchanged.

(Catalog of Federal Domestic Assistance Numbers 59002 and 59008)

James E. Rivera,
Associate Administrator for Disaster Assistance.

[FR Doc. 2013-24414 Filed 10-9-13; 8:45 am]

BILLING CODE 8025-01-P